GENERAL SERVICES ADMINISTRATION

[Notice-FTR-2013-04; Docket No. 2013-0002; Sequence 25]

Maximum Per Diem Rates for the Continental United States (CONUS)

AGENCY: Office of Government-wide Policy (OGP), General Services Administration (GSA).

ACTION: Notice of GSA Per Diem Bulletin FTR 14-01, Fiscal Year (FY) 2014 Continental United States (CONUS) per diem rates.

SUMMARY: The General Services Administration's (GSA) Fiscal Year (FY) 2014 per diem review has resulted in lodging and meal allowance changes for certain locations within the Continental United States (CONUS) to provide for reimbursement of Federal employees' expenses covered by per diem. The standard lodging per diem rate will increase to $83. The meals and incidental expense tiers remain unchanged for FY 2014 and range from $46-$71. GSA identified two new non-standard areas (NSAs): Big Spring, TX (Howard County); and Pearsall, TX (Frio, La Salle, and Medina Counties). The City of Hershey, PA, is now a separate NSA from Harrisburg, PA. In addition, Pasco, WA (Franklin County) and Richland, WA (Benton County) have been merged into a single NSA. Finally, Hendry County, FL is now included with the Palm Beach County, FL NSA.

The CONUS per diem rates prescribed in Bulletin 14-01 may be found at www.gsa.gov/perdiem. GSA bases the lodging rates on the average daily rate that the lodging industry reports to an independent organization. If a lodging rate or a per diem rate is insufficient to meet necessary expenses in any given location, Federal executive agencies can request that GSA review that location. Please review numbers five and six of GSA's per diem Frequently Asked Questions at (www.gsa.gov/perdiemfaqs) for more information on the special review process.

In addition, the Federal Travel Regulation allows for actual expense reimbursement as provided in §§ 301-11.300 through 301-11.306.

DATES: This notice is effective September 5, 2013.

Applicability Date: Travel performed on or after October 1, 2013 through September 30, 2014.

FOR FURTHER INFORMATION CONTACT: For clarification of content, contact Ms. Jill Denning, Office of Government-wide Policy, Office of Asset and Transportation Management, at 202-208-7642, or by email at travelpolicy@gsa.gov. Please cite Notice of GSA Per Diem Bulletin FTR 14-01.

SUPPLEMENTARY INFORMATION: Background: GSA issues and publishes the CONUS per diem rates, formerly published in Appendix A to 41 CFR Chapter 301, solely on the Internet at www.gsa.gov/perdiem. This process, implemented in 2003, ensures more timely changes in per diem rates established by GSA for Federal employees on official travel within CONUS. Notices published periodically in the Federal Register, such as this one, now constitute the only notification of revisions in CONUS per diem rates to agencies.

Dated: August 30, 2013.
Craig J. Flynn,
Director, Travel and Relocation Policy, Office of Government-wide Policy.

[FR Doc. 2013-21599 Filed 9-4-13; 8:45 am]

BILLING CODE 6820-14-P